DEPARTMENT OF TRANSPORTATION

Federal Aviation Administration

14 CFR Part 39

[Docket No. FAA-2005-22881; Directorate Identifier 2005-NM-202-AD; Amendment 39-14368; AD 2005-23-10]

RIN 2120-AA64

Airworthiness Directives; Airbus Model A330-200 and A330-300 Series Airplanes; and Model A340-200 and A340-300 Series Airplanes

AGENCY: Federal Aviation Administration (FAA), Department of Transportation (DOT).

ACTION: Final rule; request for comments.

SUMMARY: The FAA is adopting a new airworthiness directive (AD) for all Airbus Model A330-200 and A330-300 series airplanes; and Model A340-200 and A340-300 series airplanes. This AD requires an accelerated schedule of repetitive testing of the elevator servo control loops, and corrective actions if necessary. This AD results from reports of failed elevator servo controls due to broken guides. We are issuing this AD to ensure proper functioning of the elevator servo controls. Failure of the elevator servo controls during certain phases of takeoff could result in an unannounced loss of elevator control and consequent reduced controllability of the airplane.

DATES: This AD becomes effective November 29, 2005.

The Director of the Federal Register approved the incorporation by reference of certain publications listed in the AD as of November 29, 2005.

We must receive comments on this AD by January 13, 2006.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Discussion

The Direction Générale de l'Aviation Civile (DGAC), which is the airworthiness authority for France, notified us that an unsafe condition may exist on all Airbus Model A330-200 and A330-300 series airplanes; and Model A340-200 and A340-300 series airplanes. The DGAC advises that it has received reports of elevator servo control removals resulting from the “F/CTL ELEV SERVO FAULT” warning. During repair, some of these servo controls installed at the active position (2CS1) (Left Green) or (2CS2) (Right Green) were found with a broken guide. The broken guides resulted in the inability for the affected servo controls to change their operating mode, leading to “F/CTL ELEV SERVO FAULT” warnings. Results of the investigation revealed a fatigue rupture inside the servo control induced by successive pressure cycles and resulting in a progressive decrease of the tightening torque of the plug to be the root cause of the broken guides.

Each elevator is equipped with two servo controls having three operating modes: active mode, damping mode, and centering mode. In normal operating conditions, each elevator is actuated by one servo control in active mode, while the other is in damping mode. The mode change from active to damping is achieved by a mode-selector spool valve installed inside each servo control. The position of this spool valve is commanded by a rod that slides through a guide. A broken guide could result in the inability for the affected servo control to change its operating mode.

Failure of the elevator servo controls during certain phases of takeoff, if not corrected, could result in an unannounced loss of elevator control and consequent reduced controllability of the airplane.

Relevant Service Information

Airbus has issued All Operators Telex (AOT) A330-27A3138, Revision 01, dated October 3, 2005, for Model A330-200 and -300 series airplanes; and AOT A340-27A4137, Revision 01, dated October 3, 2005, for Model A340-200 and -300 series airplanes. The AOTs describe procedures for repetitive tests of the elevator servo-loops and corrective actions if the test fails. If the test fails, the AOTs specify performing the associated troubleshooting manual tasks and applicable corrective actions. The corrective actions include repairing wiring, replacing certain solenoid valves, replacing certain mode selector valve transducers, and replacing the elevator servo control, among other actions, depending on the fault message displayed. The AOTs also specify reporting failed tests and sending replaced servo controls to Airbus.

The DGAC mandated the AOTs and issued French airworthiness directive UF-2005-171, dated October 3, 2005, to ensure the continued airworthiness of these airplanes in France.

FAA's Determination and Requirements of This AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are issuing this AD to ensure proper functioning of the elevator servo controls. Failure of the elevator servo controls during certain phases of takeoff could result in an unannounced loss of elevator control and consequent reduced controllability of the airplane. This AD requires accomplishing the actions specified in the service information described previously.

This AD also requires that operators report results of failed servo-loop tests to Airbus. These required failed-test reports will be instrumental in ensuring that as much information as possible is gathered regarding the nature of the fatigue rupture causing the broken guides and that the new design of servo control to be used in a terminating modification, which the manufacturer is currently developing, will adequately address the subject unsafe condition.

Clarification of Corrective Actions Specified in the French Airworthiness Directive

The French airworthiness directive does not define what “corrective actions” should be taken when an elevator servo-loop test fails. We have verified that those corrective actions are the actions described previously under “Relevant Service Information.”

Interim Action

We consider this AD interim action. The manufacturer is currently developing a modification that will address the unsafe condition identified in this AD. Once this modification is developed, approved, and available, we may consider additional rulemaking.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed in the ADDRESSES section. Include “Docket No. FAA-2005-22881; Directorate Identifier 2005-NM-202-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-23-10 Airbus: Amendment 39-14368. Docket No. FAA-2005-22881; Directorate Identifier 2005-NM-202-AD.

Effective Date

(a) This AD becomes effective November 29, 2005.

Affected ADs

(b) None.

Applicability

(c) This AD applies to all Airbus Model A330-201, -202, -203, -223, -243, -301, -321, -322, -323, -341, -342, and -343 airplanes; and Model A340-211, -212, -213, -311, -312, and -313 airplanes; certificated in any category.

Unsafe Condition

(d) This AD results from reports of elevator servo control failures due to broken guides. We are issuing this AD to ensure proper functioning of the elevator servo controls. Failure of the elevator servo controls during certain phases of takeoff could result in an unannounced loss of elevator control and consequent reduced controllability of the airplane.

Compliance

(e) You are responsible for having the actions required by this AD performed within the compliance times specified, unless the actions have already been done.

Service Information

(f) The term “AOT,” as used in this AD, means section 4.2. “Description” of the following service information, as applicable:

(1) For Model A330-200 and -300 series airplanes: Airbus All Operators Telex A330-27A3138, Revision 01, dated October 3, 2005; and

(2) For Model A340-200 and -300 series airplanes: Airbus All Operators Telex A340-27A4137, Revision 01, dated October 3, 2005.

Initial and Repetitive Elevator Servo-Loop Tests

(g) Within 200 flight hours after the effective date of this AD: Test the elevator servo-loops, in accordance with the AOT. If the test of the elevator servo-loops passes, repeat the test at intervals not to exceed 140 flight hours or 8 days, whichever occurs first.

Failed Tests

(h) If any test of the elevator servo-loops required by paragraph (g) of this AD fails: Before further flight, troubleshoot the cause of the test failure, and do the applicable corrective actions; in accordance with the AOT. Thereafter, repeat the test at the times specified in paragraph (g) of this AD.

Reporting Requirement

(i) Following each test required by paragraph (g) of this AD, submit a report of the findings of only failed elevator servo-loop tests to Airbus Customer Services, Engineering and Technical Support, Attention: Mr. J. Laurent, SEE53, fax +33/(0)5.61.93.44.25; at the applicable time specified in paragraph (i)(1) or (i)(2) of this AD. The report must include the description of the failure experienced during the test, the identified cause of the failure, and the number of flight hours and flight cycles on the airplane. Under the provisions of the Paperwork Reduction Act of 1980 (44 U.S.C. 3501 et seq.), the Office of Management and Budget (OMB) has approved the information collection requirements contained in this AD and has assigned OMB Control Number 2120-0056.

(1) If the test was done after the effective date of this AD: Submit the report within 10 days after the test.

(2) If the test was done prior to the effective date of this AD: Submit the report within 10 days after the effective date of this AD.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) French airworthiness directive UF-2005-171, dated October 3, 2005, also addresses the subject of this AD.

Material Incorporated by Reference

(l) You must use Airbus All Operators Telex A330-27A3138, Revision 01, dated October 3, 2005; or Airbus All Operators Telex A340-27A4137, Revision 01, dated October 3, 2005; as applicable, to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on October 31, 2005.
Ali Bahrami,
Manager, Transport Airplane Directorate, Aircraft Certification Service.

[FR Doc. 05-22213 Filed 11-10-05; 8:45 am]

BILLING CODE 4910-13-P